DEPARTMENT OF JUSTICE

Notice of Lodging of Consent Decree Under the Resource Conservation and Recovery Act

Notice is hereby given that on August 25, 2010, a proposed Consent Decree in United States of America and State of Texas v.

Air Products LLC, Civil No. 4:10-cv-03074 (S.D. Tex.), was lodged with the United States District Court for the Southern District of Texas.

In the Complaint filed in this action, the United States and the State of Texas sought injunctive relief and civil penalties against Air Products LLC (“Air Products”) for violations of the Resource Conservation and Recovery Act (“RCRA”), 42 U.S.C. 6901-6992k, at Air Products' chemical manufacturing facility in Pasadena, Texas. The Complaint alleged that Air Products' past practice of sending spent sulfuric acid hazardous waste to the neighboring Agrifos Fertilizer, Inc. (“Agrifos”) facility for disposal violated several provisions of RCRA. The Complaint also alleged one violation of RCRA's hazardous waste labeling requirements. The State of Texas has joined as a co-plaintiff and brings its own claims under State law. In the proposed Consent Decree, Air Products agrees to manage the spent sulfuric acid on-site, and not to ship it to Agrifos or to any other facility not authorized to accept it; and to certify its compliance with labeling and other requirements applicable to hazardous waste storage tanks on site. Finally, the Consent Decree requires Air Products to pay a $1.485 million civil penalty.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, with a copy to Deborah A. Gitin, U.S. Department of Justice, 301 Howard Street, Suite 1050, San Francisco, CA 94105, and should refer to United States of America and State of Texas v. Air Products LLC, D.J. Ref. 90-7-1-09206.

The Consent Decree may be examined at the Office of the United States Attorney, 919 Milam St., Houston, Texas 77208, and at U.S. EPA Region 6, Office of Regional Counsel, 1445 Ross Ave., Dallas, Texas 75202. During the public comment period, the Consent Decree may also be examined on the following Department of Justice Web site: http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $9.50 (25 cents per page reproduction cost) payable to the U.S. Treasury or, if by e-mail or fax, forward a check in that amount to the Consent Decree Library at the stated address. In requesting a copy exclusive of appendices, please enclose a check in the amount of $8.00 (25 cents per page reproduction cost) payable to the U.S. Treasury.

Maureen Katz,
Assistant Chief, Environmental Enforcement Section, Environment and Natural Resources Division.

[FR Doc. 2010-21742 Filed 8-31-10; 8:45 am]

BILLING CODE 4410-15-P